DEPARTMENT OF TRANSPORTATION

Federal Aviation Administration

[Docket No. FAA-2019-0154]

Agency Information Collection Activities: Requests for Comments; Clearance of New Approval of Information Collection: Airspace Authorizations in Controlled Airspace Under 49 U.S.C. 44809(a)(5)

AGENCY: Federal Aviation Administration (FAA), DOT.

ACTION: Notice and request for comments.

SUMMARY: In accordance with the Paperwork Reduction Act of 1995, FAA invites public comments about our intention to request the Office of Management and Budget (OMB) approval for a new information collection. The Federal Register Notice with a 60-day comment period soliciting comments on the following collection of information was published on March 11, 2019 at Volume 84, pages 8778-79. The FAA received no comments during the 60-day comment period. The FAA proposes collecting information pursuant to new requirements under the U.S.C. that limited recreational operations of unmanned aircraft must now apply for airspace authorizations in controlled airspace. The FAA will use the collected information to make determinations whether to authorize or deny the requested operation of UAS in controlled airspace. The proposed information collection is necessary to issue such authorizations or denials consistent with the FAA's mandate to ensure safe and efficient use of national airspace.

DATES: Written comments should be submitted by June 27, 2019.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

FOR FURTHER INFORMATION CONTACT: Casey Nair, FAA's UAS Low Altitude Authorization and Notification Capability (LAANC) Program Manager by email at: casey.nair@faa.gov; phone: (202) 267-0369

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: This is a new collection.

Title: Airspace Authorizations in Controlled Airspace under 49 U.S.C. 44809(a)(5).

Form Numbers: There are no FAA forms associated with this collection.

Type of Review: New information collection.

Background: The Federal Register Notice with a 60-day comment period soliciting comments on the following collection of information was published on March 11, 2019 (84 FR 8778). There were no comments made during the comment period. Congress recently enacted the FAA Reauthorization Act of 2018 (the Act), which was signed into law by the President on October 5, 2018. Included within the Act is 49 U.S.C. 44809(a), which established limited recreational operations of unmanned aircraft. Limited recreational operations are those operations otherwise excepted from FAA certification and operating authority by adhering to all of the limitations listed in 49 U.S.C. 44809(a)(1) thru (8). Among the listed limitations that must be met, 49 U.S.C. 44809(a)(5) requires that these operations receive an authorization from the FAA prior to conducting any small UAS flight in Class B, Class C, Class D, or within the lateral boundaries of the surface area of Class E airspace designated for an airport. This is a new requirement. Previously, only persons operating under part 107 have been required to request these authorizations pursuant to OMB Control Number 2120-0768.

In order to process airspace authorization requests, the FAA requires the operator's name, the operator's contact information, and information related to the date, place, and time of the requested small UAS operation. This information is necessary for the FAA to meet its statutory mandate of maintaining a safe and efficient national airspace. See 49 U.S.C. 40103, 44701, and 44807. Similar to the existing process for part 107 operations, the FAA proposes to use LAANC and a web portal to process airspace authorization requests for limited recreational operations.

Respondents: Limited recreational operators of small unmanned aircraft seeking to conduct flights within Class B, Class C, Class D, or within the lateral boundaries of the surface area of Class E airspace designated for an airport. The FAA estimates that between 2019-2021 that it will receive 1,019,964 requests for airspace authorizations or 339,988 per year. This number is a decrease from the 1,165,387 or 388,462 annual that was estimated in the 60-Day Notice due to the change in forecast of UAS growth that was published in the FAA Aerospace Forecast for Fiscal Years 2019-2039.

Frequency: The requested information will need to be provided each time a limited recreational operator respondent requests an airspace authorization to conduct a limited recreational operation of a small UAS in controlled airspace.

Estimated Average Burden per Response: 5 minutes per response for members of the public using LAANC and 30 minutes per response for members of the public using the web portal.

Estimated Total Annual Burden: Because the FAA has not previously collected airspace authorization requests from users under 49 U.S.C § 44809(a)(5), the FAA used historical data related to airspace authorization requests submitted by part 107 operators. Under part 107, the FAA has received .318 requests per UAS registered and 85.2% of those requests were made through LAANC and 14.8% of the requests were made through the web portal. Applying these ratios to 49 U.S.C. 44809 respondents, the FAA estimates that the annual burden hours on respondents will be 49,299 hours (24,139 hours for 289,669 LAANC respondents and 25,160 hours for 50,319 web portal respondents) for airspace authorizations. To determine this calculation, the FAA estimates that a respondent will require 5 minutes (or .08 hours) to complete the authorization request form using LAANC and 30 minutes (or .5 hours) using the web portal. The estimated annual burden hours decreased from the 55,224 hours published in the 60-Day Notice to 49,299 due to the change in forecast of UAS growth that was published in the FAA Aerospace Forecast for Fiscal Years 2019-2039.

Issued in Washington, DC, on May 22, 2019.
Casey Nair,
UAS LAANC Program Manager.

[FR Doc. 2019-11060 Filed 5-24-19; 8:45 am]

BILLING CODE 4910-13-P